DEPARTMENT OF HOMELAND SECURITY

Coast Guard

33 CFR Part 105

[Docket Nos. TSA-2006-24191; USCG-2006-24196]

Transportation Worker Identification Credential (TWIC) Implementation in the Maritime Sector, Hazardous Materials Endorsement for a Commercial Driver's License

Correction

Document E8-15489 was inadvertently published in the Notices section of Wednesday, July 9, 2008, beginning on page 39323. It should have appeared in the Rules and Regulations section.

[FR Doc. Z8-15489 Filed 9-12-08; 8:45 am]

BILLING CODE 1505-01-D